DEPARTMENT OF STATE

[Public Notice 3291]

Revocation of December 21, 1999 Determination under Section 2(b)(1)(B) of the Export-Import Bank Act of 1945, as Amended

Pursuant to section 2(b)(1)(B) of the Export-Import Bank Act of 1945, as amended, and Executive Order 12166 of October 19, 1979, the determination dated December 21, 1999, with respect to Export-Import Bank financing in connection with cases APO70202XX and APO67280XX is hereby revoked.

This determination shall be published in the Federal Register.

Dated: March 31, 2000.
Madeleine K. Albright,
Secretary of State, U.S. Department of State.

[FR Doc. 00-9730 Filed 4-18-00; 8:45 am]

BILLING CODE 4710-23-P